DEPARTMENT OF TRANSPORTATION

Coast Guard

33 CFR Part 165

[COTP San Diego-02-005]

RIN 2115-AA97

Safety Zone; Colorado River, Between Davis Dam and Laughlin Bridge, Arizona and Nevada

AGENCY: Coast Guard, DOT.

ACTION: Notice of proposed rulemaking.

SUMMARY: The Coast Guard proposes a temporary safety zone within the Davis Camp Region on the navigable waters of the Colorado River for the Laughlin River Days boat race. This safety zone, proposed for June 1 and 2, 2002, consists of the navigable waters of the Colorado River between Davis Dam and the Laughlin Bridge. This temporary safety zone is necessary to provide for the safety of the crew, spectators, and participants of the race, and to protect the participating vessels, as well as other vessels and users of the waterway. Persons and vessels are prohibited from entering into, transiting through, or anchoring within this safety zone unless authorized by the Captain of the Port, or his designated representative.

DATES: Comments and related material must reach the Coast Guard on or before May 15, 2002.

ADDRESSES: You may mail comments and related material to Marine Safety Office San Diego, 2716 N. Harbor Drive, San Diego, CA 92101-1064. Marine Safety Office San Diego Port Operations maintains the public docket for this rulemaking. Comments and material received from the public, as well as documents indicated in this preamble as being available in the docket, will become part of this docket and will be available for inspection or copying at Marine Safety Office San Diego, 2716 N. Harbor Drive, San Diego, CA 92101-1064 between 8 a.m. and 4 p.m., Monday through Friday, except Federal holidays.

FOR FURTHER INFORMATION CONTACT: Petty Officer Austin Murai, USCG, c/o U.S Coast Guard Captain of the Port, telephone (619) 683-6495.

SUPPLEMENTARY INFORMATION:

Request for Comments

We encourage you to participate in this rulemaking by submitting comments and related material. You have until May 15, 2002, to comment on the proposed temporary final rule. This short comment period will permit the Coast Guard to publish a temporary final rule before the event and thus help ensure public safety. In our final rule, we will include a concise general statement of the comments received and identify any changes from the proposed rule based on the comments. If, as we expect, we make a final rule effective less than 30 days after publication in the Federal Register, we will explain our good cause for doing so as required by 5 U.S.C. 553(d)(3).

In making comments, please include your name and address, identify the docket number for this rulemaking [COTP San Diego-02-005], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Marine Safety Office San Diego Port Operations at the address under ADDRESSES explaining why one would be beneficial. If we determine that one would aid this rulemaking, we will hold one at a time and place announced by a later notice in the Federal Register.

Background and Purpose

This proposed temporary safety zone is necessary to provide for the safety of the participants, spectators, and sponsor vessels of the Laughlin River Days boat race. This proposed zone is also necessary to protect other vessels and users of the waterway. Persons and vessels would be prohibited from entering into, transiting through, or anchoring within this safety zone unless authorized by the Captain of the Port, or his designated representative.

Discussion of Proposed Rule

The following area would constitute the proposed temporary safety zone: from that portion of the Colorado River, starting at Davis Dam, mile marker 276, to the Laughlin Bridge, mile marker 274.1. We are proposing to enforce this safety zone between the Davis Dam and the Laughlin Bridge from 8 a.m. through 5 p.m. (MST) on both June 1 and 2, 2002. The on scene Captain of the Port designated representative is expected to be a Coast Guard patrol commander.

Regulatory Evaluation

This proposed rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (DOT) (44 FR 11040, February 26, 1979).

Because of its limited duration and because traffic would be able to transit with permission of the Captain of the Port or his designated representative (expected to be the Coast Guard patrol commander), we expect the economic impact of this proposed rule would be so minimal that a full Regulatory Evaluation under paragraph 10e of the regulatory policies and procedures of DOT is unnecessary.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed safety zone would not have a significant economic impact on a substantial number of small entities for the following reasons. This proposed safety zone would be enforced for 9 hours on June 1, 2002 and June 2, 2002 and vessel traffic would be allowed to pass through the zone if they obtain permission of the Captain of the Port or his designated representative.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the proposed rule would affect your small business, organization, or governmental jurisdiction and you have questions concerning its provisions or options for compliance, please contact Petty Officer Austin Murai, Marine Safety Office San Diego at (619) 683-6495.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Protection of Children

We have analyzed this proposed rule under Executive Order 13045, Protection of Children from Environmental Health Risks and Safety Risks. This proposed rule is not an economically significant rule and does not concern an environmental risk to health or risk to safety that may disproportionately affect children.

Environment

We have considered the environmental impact of this proposed rule and concluded that under figure 2-1, paragraph (34)(g) of Commandant Instruction M16475.lD, this proposed rule, a safety zone, is categorically excluded from further environmental documentation. A “Categorical Exclusion Determination” is available in the docket for inspection or copying where indicated under ADDRESSES.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 60.5; 49 CFR 1.46.

2. From 8 a.m. on June 1, 2002, through 5 p.m. on June 2, 2002, add a new temporary § 165.T11-037 to read as follows:

§ 165.T11-037 Safety Zone: Colorado River, Between Davis Dam and Laughlin Bridge.

(a) Location. The following area is a safety zone: from that portion of the Colorado River, starting at Davis Dam, mile marker 276, to the Laughlin Bridge, mile marker 274.1.

(b) Enforcement periods. This section will be enforced from 8 a.m. to 5 p.m. (MST) on June 1, 2002 and from 8 a.m. to 5 p.m. on June 2, 2002.

(c) Regulations. In accordance with the general regulations in § 165.23 of this part, entry into, transit through or anchoring within the safety zone is prohibited unless authorized by the Coast Guard Captain of the Port, San Diego, or his designated representative.

Dated: March 27, 2002.
S.P. Metruck,
Commander, Coast Guard, Captain of the Port, San Diego.

[FR Doc. 02-9681 Filed 4-18-02; 8:45 am]

BILLING CODE 4910-15-U